DEPARTMENT OF HOMELAND SECURITY

Coast Guard

[USCG-2010-0858]

Collection of Information Under Review by Office of Management and Budget: OMB Control Numbers: 1625-0002, 1625-0017, 1625-0019, and 1625-0030

AGENCY: Coast Guard, DHS.

ACTION: Thirty-day notice requesting comments.

SUMMARY: In compliance with the Paperwork Reduction Act of 1995, this request for comments announces that the U.S. Coast Guard is forwarding four Information Collection Requests (ICRs), abstracted below, to the Office of Information and Regulatory Affairs (OIRA), Office of Management and Budget (OMB) requesting an extension of its approval for the following collections of information: (1) 1625-0002, Applications for Vessel Inspection, Waiver, and Continuous Synopsis Record; (2) 1625-0017, Various International Agreement Safety Certificates and Documents; (3) 1625-0019, Alternative Compliance for International and Inland Navigation Rules—33 CFR Parts 81 and 89; (4) and 1625-0030, Oil and Hazardous Materials Transfer Procedures. Our ICRs describe the information we seek to collect from the public. Review and comments by OIRA ensure we only impose paperwork burdens commensurate with our performance of duties.

DATES: Please submit comments on or before January 21, 2011.

ADDRESSES: You may submit comments identified by Coast Guard docket number [USCG-2010-0858] to the Docket Management Facility (DMF) at the U.S. Department of Transportation (DOT) or to OIRA. To avoid duplication, please submit your comments by only one of the following means:

(1) Electronic submission. (a) To Coast Guard docket at http://www.regulations.gov. (b) To OIRA by e-mail via: oira_submission@omb.eop.gov.

(2) Mail or Hand delivery. (a) DMF (M-30), DOT, West Building Ground Floor, Room W12-140, 1200 New Jersey Avenue, SE., Washington, DC 20590-0001. Hand deliver between the hours of 9 a.m. and 5 p.m., Monday through Friday, except Federal holidays. The telephone number is 202-366-9329. (b) To OIRA, 725 17th Street, NW., Washington, DC 20503, attention Desk Officer for the Coast Guard.

(3) Fax. (a) To DMF, 202-493-2251. (b) To OIRA at 202-395-5806. To ensure your comments are received in a timely manner, mark the fax, attention Desk Officer for the Coast Guard.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from: Commandant (CG-611), Attn: Paperwork Reduction Act Manager, U.S. Coast Guard, 2100 2nd St. SW., Stop 7101, Washington, DC 20593-7101.

FOR FURTHER INFORMATION: Contact Ms. Kenlinishia Tyler, Office of Information Management, telephone 202-475-3652 or fax 202-475-3929, for questions on these documents. Contact Ms. Renee V. Wright, Program Manager, Docket Operations, 202-366-9826, for questions on the docket.

SUPPLEMENTARY INFORMATION: The Coast Guard invites comments on whether these ICRs should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to Coast Guard or OIRA must contain the OMB Control Number of the ICRs. They must also contain the docket number of this request, [USCG-2010-0858]. For your comments to OIRA to be considered, it is best if they are received on or before the January 21, 2011.

Public participation and request for comments: We encourage you to respond to this request by submitting comments and related materials. We will post all comments received, without change, to http://www.regulations.gov. They will include any personal information you provide. We have an agreement with DOT to use their DMF. Please see the “Privacy Act” paragraph below.

Submitting comments: If you submit a comment, please include the docket number [USCG-2010-0858], indicate the specific section of the document to which each comment applies, providing a reason for each comment. We recommend you include your name, mailing address, an e-mail address, or other contact information in the body of your document so that we can contact you if we have questions regarding your submission. You may submit comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. In response to your comments, we may revise the ICR or decide not to seek an extension of approval for this collection. The Coast Guard and OIRA will consider all comments and material received during the comment period.

Viewing comments and documents: Go to http://www.regulations.gov to view documents mentioned in this Notice as being available in the docket. Click on the “read comments” box, which will then become highlighted in blue. In the “Keyword” box insert “USCG-2010-0858” and click “Search.” Click the “Open Docket Folder” in the “Actions” column. You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Previous Request for Comments

This request provides a 30-day comment period required by OIRA. The Coast Guard published the 60-day notice (75 FR 57809, September 22, 2010) required by 44 U.S.C. 3506(c)(2). That Notice elicited no comments.

Information Collection Request

1. Title: Applications for Vessel Inspection, Waiver, and Continuous Synopsis Record.

OMB Control Number: 1625-0002.

Type of Request: Extension of a currently approved collection.

Respondents: Vessel owner, operator, agent, master or interested U.S. Government agency.

Abstract: Title 46 U.S.C. 3306 and 3309 authorize the Coast Guard to establish regulations to protect life, property, and the environment. These reporting requirements are part of the Coast Guard's Marine Safety Program.

Forms: CG-2633, CG-3752, CG-3752A, CG-6039.

Burden Estimate: The estimated burden has increased from 848 hours to 1,315 hours a year.

2. Title: Various International Agreement Safety Certificates and Documents.

OMB Control Number: 1625-0017.

Type of Request: Extension of a currently approved collection.

Respondents: Owners and operators of Safety of Life at Sea (SOLAS) vessels.

Abstract: SOLAS applies to all mechanically propelled cargo vessels of 500 or more gross tons (GT), and to all mechanically propelled passenger vessels carrying more than 12 passengers that engage in international voyages. SOLAS and title 46 CFR 2.01-25 list certificates and documents that may be issued to vessels.

Forms: CG-967, CG-968, CG-968A, CG-969, CG-3347, CG-3347B, CG-4359, CG-4360, CG-4361, CG-5643, CG-5679, CG-5679A, CG-5680, CG-6038, CG-6038A.

Burden Estimate: The estimated burden has increased from 127 hours to 169 hours a year.

3. Title: Alternative Compliance for International and Inland Navigation Rules—33 CFR Parts 81 and 89.

OMB Control Number: 1625-0019.

Type of Request: Extension of a currently approved collection.

Respondents: Vessel owners, operators, builders and agents.

Abstract: Certain vessels cannot comply with the International Navigation Rules (see 33 U.S.C. 1601 through 1608; 28 U.S.T. 3459, and T.I.A.S. 8587) and Inland Navigation Rules (33 U.S.C. 2001 through 2073). The Coast Guard thus provides an opportunity for alternative compliance. However, it is not possible to determine whether appropriate, or what kind of alternative procedures might be necessary, without this collection.

Forms: None.

Burden Estimate: The estimated burden has decreased from 122 hours to 50 hours a year.

4. Title: Oil and Hazardous Materials Transfer Procedures.

OMB Control Number: 1625-0030.

Type of Request: Extension of a currently approved collection.

Respondents: Operators of certain vessels.

Abstract: Title 33 U.S.C. 1231 authorizes the Coast Guard to prescribe regulations related to the prevention of pollution. Title 33 CFR Part 155 prescribes pollution prevention regulations including those related to transfer procedures.

Forms: None.

Burden Estimate: The estimated burden has increased from 133 hours to 164 hours a year.

Authority: The Paperwork Reduction Act of 1995; 44 U.S.C. Chapter 35, as amended.

Dated: December 15, 2010.
R.E. Day,
Rear Admiral, U.S. Coast Guard, Assistant Commandant for Command, Control, Communications, Computers and Information Technology.

[FR Doc. 2010-32060 Filed 12-21-10; 8:45 am]

BILLING CODE 9110-04-P